DEPARTMENT OF COMMERCE

National Oceanic and Atmospheric Administration

50 CFR Part 679

[Docket No. 001114320-1191-02; I.D. 080400B]

RIN 0648-AN01

Fisheries of the Exclusive Economic Zone Off Alaska; Recordkeeping and Reporting Requirements; Alaska Commercial Operator’s Annual Report

AGENCY: National Marine Fisheries Service (NMFS), National Oceanic and Atmospheric Administration (NOAA), Commerce.

ACTION: Final rule.

SUMMARY: NMFS issues a final rule to amend portions of the regulations implementing the recordkeeping and reporting requirements for groundfish fisheries in the Exclusive Economic Zone to require groundfish motherships and catcher/processors to submit annually to the State of Alaska, Department of Fish & Game (ADF&G), a Commercial Operator's Annual Report (COAR). This action is necessary to gather information on exvessel and first wholesale values for state-wide finfish and shellfish products from catcher/processors and motherships at sea. These data together with the information already gathered from shoreside processors and stationary floating processors will provide a means to compare value information (in dollars) of different types of species and products from all processors of fish harvested from Alaska State and Federal waters within a year and comparisons of several years through consistent yearly collection of information. This action is intended to further the goals and objectives of the Magnuson-Stevens Fishery Conservation and Management Act (Magnuson-Stevens Act) with respect to the collection and analysis of economical data.

DATES: Effective September 19, 2001.

ADDRESSES: Copies of the Regulatory Impact Review (RIR) prepared for this action may be obtained from the Sustainable Fisheries Division, Alaska Region, NMFS, P.O. Box 21668, Juneau, AK 99802-1668, Attn: Lori Gravel, or by calling the Alaska Region, NMFS, at 907-685-7228.

Comments involving the reporting burden estimates or any other aspects of the collection of information requirements contained in this final rule should be sent to both Lori Gravel, at the preceding address, and to the Office of Information and Regulatory Affairs, Office of Management and Budget (OMB), Washington, DC 20503 (Attn: NOAA Desk Officer). Comments sent by e-mail or the Internet will not be accepted.

FOR FURTHER INFORMATION CONTACT: Patsy A. Bearden, 907-586-7228 or patsy.bearden@noaa.gov.

SUPPLEMENTARY INFORMATION:

Background

NMFS manages fishing for groundfish by U.S. vessels in the exclusive economic zone of the Gulf of Alaska and the Bering Sea and Aleutian Islands Management Area under the Fishery Management Plan for Groundfish of the Gulf of Alaska and the Fishery Management Plan for the Groundfish Fishery of the Bering Sea and Aleutian Islands Area (FMPs). The Council prepared the FMPs under authority of the Magnuson-Stevens Act. Regulations implementing the FMPs at 50 CFR part 679 and subpart H of 50 CFR part 600 govern fishing by U.S. vessels. Recordkeeping and reporting requirements appear at 50 CFR 679.5.

This final rule implements the following changes to the recordkeeping and reporting requirements: (1) In § 679.2, add a definition of COAR; (2) in § 679.5, add a paragraph (p) that establishes requirements on completing and submitting the COAR; (3) revise Table 14—Ports of landing, Table 15—Gear Codes, descriptions, and use; (4) add Table 16—Area Codes and descriptions for use with ADF&G COAR, Table 17—COAR Process Codes, and Table 18—COAR Buying and Production Forms.

This action results in a substantive regulatory revision, namely, the addition of a requirement that catcher/processors and motherships submit an annual COAR detailing exvessel and first wholesale value data for fish and shellfish products. This action is necessary to gather information on exvessel and first wholesale values for state-wide finfish and shellfish products from catcher/processors and motherships at sea. These data together with the information already gathered from shoreside processors and stationary floating processors will provide a means to compare value information (in dollars) of different types of species and products from all processors of fish harvested from Alaska State and Federal waters within a year and comparisons of several years through consistent yearly collection of information. The additional requirement will:

(1) Allow NMFS staff to obtain for all processing sectors equivalent annual product value information and a consistent time series of information; in other words, the added data will provide a means to compare value information (in dollars) of different types of species and products from all processors of fish harvested from Alaska State and Federal waters within a year and comparisons of several years through a consistent yearly collection of information.

(2) Provide an enhanced socioeconomic database that NMFS will use to measure economic and socioeconomic impacts more accurately and to prepare economic analyses of proposed or existing management measures in compliance with the mandates of Executive Order (E.O.) 12866, the Magnuson-Stevens Act, including national standards 2, 4, 7 and 8, the American Fisheries Act (to monitor and report to Congress on the effects and efficacy of the new groundfish management programs), and the Regulatory Flexibility Act.

(3) Provide detailed (and consistent) data on production, prices, and product forms that NMFS will use to respond to requests for economic information from Federal and state management agencies, the fishing industry, and the general public.

(4) Provide a database that NMFS will use in the annual NMFS Stock Assessment and Fishery Evaluation (SAFE) documents for the groundfish fisheries of the Bering Sea and Aleutian Islands (BSAI) and Gulf of Alaska (GOA), in annual Federal publications on the value of U.S. commercial fisheries (e.g., Fisheries of the United States), and in periodic reports to economists that describe the fisheries and that serve as reference documents to management agencies, the industry, and others.

Some negative impacts could be encountered by some processors who would need to restructure their computer accounting systems to allow for the State of Alaska area codes that are distinct to the COAR. Otherwise, the codes are the same as those used on ADF&G fish tickets and in NMFS’ recordkeeping and reporting.

NMFS published a proposed rule to implement these revisions in the Federal Register on December 14, 2000 (65 FR 78131). The preamble to the proposed rule contains a full description of the revisions and their justification, which is not repeated here. NMFS invited public comment on the changes contained in this action through January 16, 2001.

Comments and Responses

NMFS received one comment on the proposed rule.

Comment. The comment supported the proposed COAR requirement, but cautioned that the methodology for calculating the data points (e.g., standardizing point of first wholesale pricing, shipping factors) needed to be the same across processing sectors of the fisheries. The commentor was concerned that the data computation point(s) are vague and that care should be taken that the data collected under this final rule are comparable to those already collected by the State of Alaska. The commentor added that the terms “mothership” and “catcher/processor” need to be clearly defined.

Response. The State’s existing data collection system will be used by NMFS for both the current shoreside collection and the new at-sea collection. The COAR form will be completed and submitted to ADF&G who will enter the data in the database. For the Federal system, NMFS has precisely defined “mothership” and “catcher/processor” for purposes of recordkeeping and reporting, and under these definitions the processors are required to submit the COAR. Accordingly, NMFS’ COAR is analogous with the State of Alaska COAR.

Although some editorial changes were made to the regulatory text in this final rule, no substantive changes were made from the proposed regulatory text. An explanation of the editorial changes follows:

Table 14 (a). The title of Table 14 (a) is changed to read, “Port of Landing Codes, including CDQ and IFQ Primary Ports—(a) United States, Alaska.” The port code for Unalaska (180) is removed, and code 119 is renamed to read Dutch Harbor/Unalaska. Several port codes are added: XIP (124) for Excursion Inlet; FSP for False Pass, KOD (146) for Kodiak; (162) Portage Bay (Petersburg); and (182) West Anchor Cove. The port, “Other/Unknown” is revised to read “Other” and UNK (499).

Table 14 (b). The title of Table 14 (b) is changed to read, “Port of Landing Codes, including CDQ and IFQ Primary Ports—(b) United States, non-Alaska.” A footnote (1) is added to explain how to record a location not assigned a code.

Table 14 (c). The title of Table 14 (c) is changed to read, “Port of Landing Codes, including CDQ and IFQ Primary Ports—(c) Canada.” A footnote (1) is added to explain how to record a location not assigned a code.

Classification

The Administrator, Alaska Region, NMFS (Regional Administrator), determined that this final rule is necessary for the conservation and management of the groundfish fisheries off Alaska.

Notwithstanding any other provision of the law, no person is required to respond to, nor shall any person be subject to a penalty for failure to comply with, a collection of information subject to the requirements of the Paperwork Reduction Act (PRA), unless that collection of information displays a currently valid OMB control number.

This final rule contains collection-of-information requirements subject to the PRA that have been approved by OMB under control no. 0648-0428. The estimated response time to complete a COAR is estimated to range from 0.5 hr to 16 hr, an average of 8 hr per year.

This final rule was developed through a joint effort between the State of Alaska ADF&G and the NMFS Alaska Region. This cooperative endeavor will result in a combined database consisting of exvessel and first wholesale value information (in dollars) as well as production information from all processors of fish species and products harvested from State of Alaska waters and Federal waters off Alaska. This database will be updated annually and will allow historical economic comparisons through a consistent collection of information.

In the late 1980's, NMFS and the State of Alaska ADF&G began to jointly collect COAR data for the shoreside sector. Prior to that, ADF&G collected the COAR data and NMFS collected data for its own survey. The groundfish COAR was collected for 4 years cooperatively by NMFS and ADF&G. The two agencies jointly developed the procedure and proposed Federal regulations for gathering information from motherships and catcher/processors to add the information already collected from shoreside processors and stationary floating processors by the State of Alaska. The procedure is based on using the State of Alaska’s 25-year old COAR data collection to the greatest extent to accomplish NMFS’ statutory goal of information collection while enhancing the State of Alaska’s database and goals.

The two agencies have agreed to use one COAR form for the State of Alaska’s and NMFS’ requirements. In addition, the agencies agreed that the COAR forms will be sent directly by the processors to ADF&G for data entry, verification, and storage. Since 2000, two staff persons at ADF&G have been funded by a NOAA grant to assist with COAR data entry and to improve the quality and efficiency of the COAR database. This funding is expected to increase to cover the additional costs associated with at-sea processor COAR submittal. State ADF&G staff will contact the processors for verification of information and for any questionable responses on the COAR and to ensure that each processor required to submit a COAR by either State of Alaska or Federal requirements does in fact submit the COAR to ADF&G. NMFS staff will receive copies (paper or electronic) of the database on request to ADF&G.

The combined database will provide a means to compare exvessel and first wholesale value information (in dollars) from all processors of different species and products of fish harvested from State of Alaska waters and Federal waters off Alaska by year and will allow historical comparisons through consistent collections of information through the years.

This final rule has been determined to be not significant for purposes of E.O. 12866.

List of Subjects in 50 CFR Part 679

Alaska, Fisheries, Recordkeeping and reporting requirements.

Dated: August 8, 2001
William T. Hogarth,
Acting Assistant Administrator for Fisheries, National Marine Fisheries Service.

For the reasons set forth in the preamble, 50 CFR part 679 is amended as follows:

PART 679—FISHERIES OF THE EXCLUSIVE ECONOMIC ZONE OFF ALASKA

1. The authority citation for 50 CFR part 679 continues to read as follows:

Authority: 16 U.S.C. 773 et seq., 1801 et seq., and 3631 et seq.

2. Section 679.2 is amended by adding the definition in alphabetical order for “Commercial Operator’s Annual Report (COAR).”

§ 679.2 Definitions.

* * * * *

Commercial Operator’s Annual Report (COAR) means the annual report of information on exvessel and first wholesale values for fish and shellfish required under Title 5 of the Alaska Administrative Code, chapter 39.130 (see § 679.5 (p)).

* * * * *

3. Section 679.5 is amended by adding paragraph (p) to read as follows:

§ 679.5 Recordkeeping and reporting.

* * * * *

(p) Commercial Operator’s Annual Report (COAR)—(1) Requirement. The owner of a mothership or catcher/processor must annually complete and submit to ADF&G the appropriate Forms A through M and COAR certification page for each year in which the mothership or catcher/processor was issued a Federal Fisheries permit. The owner of a mothership must include all fish received and processed during the year, including fish received from an associated buying station. The ADF&G COAR is further described under Alaska Administrative Code (5 AAC 39.130) (see § 679.3 (b)(2)).

(2) Time limit and submittal of COAR. The owner of a mothership or catcher/processor must submit to ADF&G the appropriate Forms A through M and COAR certification page by April 1 of the year following the year for which the report is required to the following address:

Alaska Department of Fish & Game, Division of Commercial Fisheries, Attn: COAR, P.O. Box 25526, Juneau, AK 99802-5526

(3) Information required, certification page. The owner of a mothership or catcher/processor must:

(i) Enter the company name and address, including street, city, state, and zip code; also seasonal mailing address, if applicable.

(ii) Enter the vessel name and ADF&G processor code.

(iii) Check YES or NO to indicate whether fishing activity was conducted during the appropriate year.

(iv) If response to paragraph (p)(3)(iii) of this section is YES, complete the applicable forms of the COAR (see table 18 to this part) and complete and sign the certification page.

(v) If response to paragraph (p)(3)(iii) of this section is NO, complete and sign only the certification page.

(vi) Sign and enter printed or typed name, e-mail address, title, telephone number, and FAX number of owner.

(vii) Enter printed or typed name, e-mail address, and telephone number of alternate contact.

(4) Buying information (exvessel), Forms A (1-3), C (1-2), E, G, I (1-2), and K.—(i) Requirement. The owner of a mothership (if the first purchaser of raw fish) must complete and submit the appropriate COAR buying forms (A (1-3), C (1-2), E, G, I (1-2), and K) for each species purchased from fishermen during the applicable year.

(ii) Buying information required. The owner of the mothership must record the following information on the appropriate COAR buying forms:

(A) Species name and code (see table 2 to this part).

(B) Area purchased (see table 16 to this part).

(C) Gear code (see table 15 to this part).

(D) Delivery code (form G only) (see table 1 to this part).

(E) Total weight (to the nearest lb) purchased from fishermen.

(F) Total amount paid to fishermen, including all post- season adjustments and/or bonuses and any credit received by fishermen for gas expenses, ice, delivery premiums, and other miscellaneous expenses.

(G) Price per pound. If additional adjustments may be made after this report has been filed, the owner must check the “$ not final” box, and submit Form M when these adjustments are paid. Do not include fish purchased from another processor.

(5) Production forms, Forms B (1-6), D, F, H, J (1-2), and K). For purposes of this paragraph, the total wholesale value is the amount that the processor receives for the finished product (free on board pricing mothership or catcher/processor). For products finished but not yet sold (still held in inventory), calculate the estimated value using the average price received to date for that product.

(i) Requirement—(A) Mothership. The owner of a mothership must record and submit the appropriate COAR production forms (B(1-6), D, F, H, J(1-2), and K) for all production that occurred for each species during the applicable year:

(1) That were purchased from fishermen on the grounds and/or dockside, including both processed and unprocessed seafood.

(2) That were then either processed on the mothership or exported out of the State of Alaska.

(B) Catcher/processor. The owner of a catcher/processor must record and submit the appropriate COAR production forms (B(1-6), D, F, H, J (1-2), and K) for each species harvested during the applicable year that were then either processed on the vessel or exported out of the State of Alaska.

(ii) Information required, non-canned production—(A) Enter area of processing (see table 16 to this part). List production of Canadian-harvested fish separately.

(B) Processed product. Processed product must be described by entering three codes:

(1) Process prefix code (see table 17 to this part)

(2) Process suffix code (see table 17 to this part)

(3) Product code (see table 1 to this part)

(C) Total net weight. Enter total weight (in pounds) of the finished product.

(D) Total value($). Enter the total wholesale value of the finished product.

(E) Enter price per pound of the finished product.

(iii) Information required, canned production. Complete an entry for each can size produced:

(A) Enter area of processing (see table 16 to this part).

(B) Process 51 or 52. Enter conventional canned code (51) or smoked, conventional canned code (52).

(C) Total value($). Enter the total wholesale value of the finished product.

(D) Enter can size in ounces, to the hundredth of an ounce.

(E) Enter number of cans per case.

(F) Enter number of cases.

(6) Custom production forms, Form L (1-2)—(i) Requirement. The owner of a mothership or catcher/processor must record and submit COAR production form L (1-2) for each species in which custom production was done by the mothership or catcher/processor for another processor and for each species in which custom production was done for the mothership or catcher/processor by another processor.

(ii) Custom-production by mothership or catcher/processor for another processor. If the mothership or catcher/processor custom-processed fish or shellfish for another processor during the applicable year, the owner of the mothership or catcher/processor must list the processor name and ADF&G processor code (if known) to describe that processor, but must not include any of that production in production form L (1-2).

(iii) Custom-production by another processor for mothership or catcher/processor. If a processor custom-processed fish or shellfish for the mothership or catcher/processor during the applicable year, the owner of the mothership or catcher/processor must use a separate page to list each processor and must include the following information.

(A) Custom fresh/frozen miscellaneous production. The owner of a mothership or catcher/processor must list the following information to describe production intended for wholesale/retail market and that are not frozen for canning later:

(1) Species name and code (see table 2 to this part).

(2) Area of processing (see table 16 to this part).

(3) Processed product. Processed product must be entered using three codes:

(i) Process prefix code (see table 17 to this part).

(ii) Process suffix code (see table 17 to this part).

(iii) Product code (see table 1 to this part).

(4) Total net weight. Enter total weight in pounds of the finished product.

(5) Total wholesale value($). Enter the total wholesale value of the finished product.

(B) Custom canned production. The owner of a mothership or catcher/processor must list the following information to describe each can size produced in custom canned production:

(1) Species name and code (see table 2 to this part).

(2) Area of processing (see table 16 to this part).

(3) Process 51 or 52. Enter conventional canned code (51) or smoked, conventional canned code (52).

(4) Total wholesale value ($). Enter the total wholesale value of the finished product.

(5) Can size in ounces, to the hundredth of an ounce.

(6) Number of cans per case.

(7) Number of cases.

(7) Fish buying retro payments/post-season adjustments, Form M—(i) Requirement. The owner of a mothership must record and submit COAR production Form M to describe additional adjustments and/or bonuses awarded to a fisherman, including credit received by fishermen for gas expenses, ice, delivery premiums, and other miscellaneous expenses.

(ii) Information required—(A) Enter species name and code (see table 2 to this part).

(B) Enter area purchased (see table 16 to this part)

(C) Enter gear code (see table 16 to this part).

(D) Enter total pounds purchased from fisherman.

(E) Enter total amount paid to fishermen (base + adjustment).

4. In part 679, table 14 is removed and tables 14a, 14b, and 14c are added in its place; table 15 is revised; and tables 16, 17, and 18 to part 679 are added to read as follows:

Table 14a to Part 679. Port of Landing Codes, Alaska, Including CDQ and IFQ Primary Ports
Port Name | NMFS Code | ADF&G Code ADF&G Code | CDQ/IFQ Primary Ports for Vessel Clearance (X indicates an authorized IFQ port; see § 679.5 (l)(5)(vi)): CDQ/IFQ | CDQ/IFQ Primary Ports for Vessel Clearance (X indicates an authorized IFQ port; see § 679.5 (l)(5)(vi)): North Latitude | CDQ/IFQ Primary Ports for Vessel Clearance (X indicates an authorized IFQ port; see § 679.5 (l)(5)(vi)): West Longitude
Adak | 186 | ADA |  |  |
Akutan | 101 | AKU | X | 54°08′05″ | 165°46′20″
Akutan Bay | 102 |  |  |  |
Alitak | 103 | ALI |  |  |
Anchor Point | 104 |  |  |  |
Anchorage | 105 | ANC |  |  |
Angoon | 106 | ANG |  |  |
Aniak |  | ANI |  |  |
Anvik |  | ANV |  |  |
Atka | 107 | ATK |  |  |
Auke Bay | 108 |  |  |  |
Baranof Warm Springs | 109 |  |  |  |
Beaver Inlet | 110 |  |  |  |
Bethel |  | BET |  |  |
Captains Bay | 112 |  |  |  |
Chignik | 113 | CHG |  |  |
Chinitna Bay | 114 |  |  |  |
Cordova | 115 | COR | X | 60°33′00″ | 145°45′00″
Craig | 116 | CRG | X | 55°28′30″ | 133°09′00″
Dillingham | 117 | DIL |  |  |
Douglas | 118 |  |  |  |
Dutch Harbor | 119 | DUT |  |  |
Dutch Harbor/Unalaska |  |  | X | 53°53′27″ | 166°32′05″
Edna Bay | 121 |  |  |  |
Egegik | 122 | EGE |  |  |
Ekuk |  | EKU |  |  |
Elfin Cove | 123 | ELF |  |  |
Emmonak |  | EMM |  |  |
Fairbanks |  | FBK |  |  |
False Pass | 125 |  |  |  |
Galena |  | GAL |  |  |
Glacier Bay |  | GLB |  |  |
Glennallen |  | GLN |  |  |
Gustavus | 127 | GUS |  |  |
Haines | 128 | HNS |  |  |
Halibut Cove | 130 |  |  |  |
Hollis | 131 |  |  |  |
Homer | 132 | HOM | X | 59°38′40″ | 151°33′00″
Hoonah | 133 | HNH |  |  |
Hydaburg |  | HYD |  |  |
Hyder | 134 | HDR |  |  |
Ikatan Bay | 135 |  |  |  |
Juneau | 136 | JNU |  |  |
Kake | 137 | KAK |  |  |
Kaltag |  | KAL |  |  |
Kasilof | 138 | KAS |  |  |
Kenai | 139 | KEN |  |  |
Kenai River | 140 |  |  |  |
Ketchikan | 141 | KTN | X | 55°20′30″ | 131°38′45″
King Cove | 142 | KCO | X | 55°03′20″ | 162°19′00″
King Salmon | 143 | KNG |  |  |
Kipnuk | 144 |  |  |  |
Klawock | 145 | KLA |  |  |
Kotzebue |  | KOT |  |  |
La Conner |  | LAC |  |  |
Mekoryuk | 147 |  |  |  |
Metlakatla | 148 | MET |  |  |
Moser Bay |  | MOS |  |  |
Naknek | 149 | NAK |  |  |
Nenana |  | NEN |  |  |
Nikiski (or Nikishka) | 150 | NIK |  |  |
Ninilchik | 151 | NIN |  |  |
Nome | 152 | NOM |  |  |
Nunivak Island |  | NUN |  |  |
Old Harbor | 153 | OLD |  |  |
Other/Unknown | 499 | UNK |  |  |
Pelican | 155 | PEL | X | 57°57′30″ | 136°13′30″
Petersburg | 156 | PBG | X | 56°48′10″ | 132°58′00″
Point Baker | 157 |  |  |  |
Port Alexander | 158 | PAL |  |  |
Port Armstrong |  | PTA |  |  |
Port Bailey | 159 | PTB |  |  |
Port Graham | 160 | GRM |  |  |
Port Lions |  | LIO |  |  |
Port Moller |  | MOL |  |  |
Port Protection | 161 |  |  |  |
Resurrection Bay | 163 |  |  |  |
Sand Point | 164 | SPT | X | 55°20′15″ | 160°30′00″
Savoonga | 165 |  |  |  |
Seldovia | 166 | SEL |  |  |
Seward | 167 | SEW | X | 60°06′30″ | 149°26′30″
Sitka | 168 | SIT | X | 57°03′ | 135°20′
Skagway | 169 | SKG |  |  |
Soldotna |  | SOL |  |  |
St. George | 170 | STG |  |  |
St. Lawrence | 171 |  |  |  |
St. Mary |  | STM |  |
St. Paul | 172 | STP | X | 57°07′20″ | 170°16′30″
Tee Harbor | 173 |  |  |  |
Tenakee Springs | 174 | TEN |  |  |
Thorne Bay | 175 |  |  |  |
Togiak | 176 | TOG |  |  |
Toksook Bay | 177 |  |  |  |
Tununak | 178 |  |  |  |
Ugadaga Bay | 179 |  |  |  |
Ugashik |  | UGA |  |  |
Unalakleet |  | UNA |  |  |
Unalaska | 180 |  |  |  |
Valdez | 181 | VAL |  |  |
Wasilla |  | WAS |  |  |
Whittier | 183 | WHT |  |  |
Wrangell | 184 | WRN |  |  |
Yakutat | 185 | YAK | X | 59°33′ | 139°44′

Table 14b to Part 679. Port of Landing Codes: California, Oregon, Canada, Including CDQ and IFQ Primary Ports
Port Name | NMFS Code | ADF&G Code | CDQ/IFQ Primary Ports for Vessel Clearance (X indicates an authorized IFQ port; see § 679.5 (l)(5)(vi)): CDQ/IFQ | CDQ/IFQ Primary Ports for Vessel Clearance (X indicates an authorized IFQ port; see § 679.5 (l)(5)(vi)): North Latitude | CDQ/IFQ Primary Ports for Vessel Clearance (X indicates an authorized IFQ port; see § 679.5 (l)(5)(vi)): West Longitude
California |  |  |  |  |
Eureka | 500 | EUR |  |  |
Fort Bragg | 501 |  |  |  |
Other | 599 |  |  |  |
Oregon |  |  |  |  |
Astoria | 600 | AST |  |  |
Lincoln City | 602 |  |  |  |
Newport | 603 | NPT |  |  |
Olympia |  | OLY |  |  |
Portland |  | POR |  |  |
Warrenton | 604 |  |  |  |
Other | 699 |  |  |  |
Canada |  |  |  |  |
Port Edward | 800 |  |  |  |
Port Hardy | 801 |  |  |  |
Prince Rupert | 802 | PRU |  |  |
Other | 899 |  |  |  |

Table 14c to Part 679. Washington Port of Landing Codes: Including CDQ and IFQ Primary Ports
Port Name | NMFS Code | ADF&G Code | CDQ/IFQ Primary Ports for Vessel Clearance (X indicates an authorized IFQ port; see § 679.5 (l)(5)(vi)): CDQ/IFQ | CDQ/IFQ Primary Ports for Vessel Clearance (X indicates an authorized IFQ port; see § 679.5 (l)(5)(vi)): North Latitude | CDQ/IFQ Primary Ports for Vessel Clearance (X indicates an authorized IFQ port; see § 679.5 (l)(5)(vi)): West Longitude
Anacortes | 700 | ANA |  |  |
Bellevue | 701 |  |  |  |
Bellingham | 702 |  | X | 48°45′04″ | 122°30′02″
Blaine |  | BLA |  |  |
Edmonds | 703 |  |  |  |
Everett | 704 |  |  |  |
Fox Island | 706 |  |  |  |
Ilwaco | 707 |  |  |  |
La Conner | 708 | LAC |  |  |
Mercer Island | 709 |  |  |  |
Nagai Island | 710 |  |  |  |
Port Angeles | 711 |  |  |  |
Port Orchard | 712 |  |  |  |
Port Townsend | 713 |  |  |  |
Rainier | 714 |  |  |  |
Seattle | 715 | SEA |  |  |
Tacoma |  | TAC |  |  |
Other | 799 |  |  |  |

Table 15 to Part 679—Gear codes, descriptions, and use (X indicates where this code is used)
Name of Gear | NMFS Logbooks and Forms | Electronic WPR & Check-in/out Code | Gear Code, Numeric | Use Numeric Code to Complete the Following:: Shoreside Electronic Logbook | Use Numeric Code to Complete the Following:: IFQ Terminal and Forms | Use Numeric Code to Complete the Following:: COAR Report
Diving |  | OTH | 11 | X |  | X
Dredge |  | OTH | 22 | X |  | X
Dredge, hydro/mechanical |  | OTH | 23 | X |  | X
Fish wheel |  | OTH | 08 | X |  | X
Gillnet, drift |  | OTH | 03 | X |  | X
Gillnet, herring |  | OTH | 34 | X |  | X
Gillnet, set |  | OTH | 04 | X |  | X
Gillnet, sunken |  | OTH | 41 | X |  | X
Hand line/jig/troll |  | ⁽¹⁾ | 05 | X | IFQ name: hand troll | X
Handpicked |  | OTH | 12 | X |  | X
Hatchery |  | n/a | 77 | X |  | X
Hook-and-line | X | HAL | 61 | X | X | X
Jig,mechanical |  | ⁽¹⁾ | 26 | X |  | X
Jig/Troll | X | JIG | ⁽¹⁾ | ⁽¹⁾ |  |
Net,dip |  | OTH | 13 | X |  | X
Net,ring |  | OTH | 10 | X |  | X
Other/specify | X | OTH | 99 | X |  | X
Pot | X | POT | 91 | X | X | X
Pound |  | OTH | 21 | X |  | X
Seine,beach |  | OTH | 02 | X |  | X
Seine,purse |  | OTH | 01 | X |  | X
Shovel |  | OTH | 18 | X |  | X
Trap |  | OTH | 90 | X |  | X
Trawl, beam |  | ⁽²⁾ | 17 | X |  | X
Trawl, double otter |  | ⁽²⁾ | 27 | X |  | X
Trawl, nonpelagic/bottom | X | NPT | 07 | X |  | X
Trawl, pelagic/midwater | X | PTR | 47 | X |  | X
Troll,dinglebar |  | OTH | 25 | X | IFQ name: dinglebar troll | X
Troll, power gurdy |  | ⁽¹⁾ | 15 | X |  | X
Weir |  | OTH | 14 | X |  | X
NOTES:
⁽¹⁾Federal Authorized Gear JIG/TROLL. No numeric code is available because both jig and troll have a separate code number
⁽²⁾For logbooks, forms, electronic WPR, electroniccheck-in/out reports: all trawl gear must be reported as either nonpelagic or pelagic trawl

Table 16 to Part 679—Area Codes and Descriptions for Use with State of Alaska ADF&G Commercial Operator’s Annual Report (COAR)
COAR: Name (Code) | Species | ADF&G Fisheries Management Areas | Area Description in ADF&G Regulations
Alaska Peninsula South Peninsula (MS) North Peninsula (MN) | King Crab: AK Peninsula/Aleutian Islands Salmon | M M M | 5 AAC 34.500 5 AAC 12.100 (Aleutians) 5 AAC 09.100 (AK Peninsula)
| Herring | M | 5 AAC 27.600
Atka-Amlia Islands (FB) (FG) | Salmon | n/a | 5 AAC 11.1010
Bering Sea: Pribilof Island (Q1) St. Matthew Island Q2) St. Lawrence Island (Q4) | Bering Sea King Crab Bering Sea/Kotzebue | Q Q | 5 AAC 34.900 5 AAC 27.900
Bristol Bay (T) | King Crab Salmon Herring | T T T | 5 AAC 34.800 5 AAC 06.100 5 AAC 27.800
Chignik (L) | Groundfish Herring Salmon | L L L | 5 AAC 28.500 5 AAC 27.550 5 AAC 15.100
Cook Inlet: Lower Cook Inlet (HL) Upper Cook Inlet (HU) | Groundfish Herring Cook Inlet Shrimp Outer Cook Inlet Shrimp Dungeness Crab King Crab Tanner Crab Miscellaneous Shellfish Salmon | H H H H H H H H H | 5 AAC 28.300 5 AA 27.400 5 AAC 31.300 5 AA 31.400 5 AA 32.300 5 AA 34.300 5 AA 35.400 5 AA 38.300 5 AA 21.100
Dutch Harbor (O) | Aleutian Islands King Crab | O | 5 AA 34.600
EEZ (Federal waters of BSAI and GOA) (FB) (FG) | Groundfish | n/a | n/a
Kodiak (western GOA) (K) | Groundfish Herring King Crab Salmon Shrimp Dungeness Crab Tanner Crab Miscellaneous Shellfish | K K K K J J J J | 5 AAC 28.400 5 AAC 27.500 5 AAC 34.400 5 AAC 18.100 5 AAC 31.500 5 AAC 32.400 5 AAC 35.500 5 AAC 38.400
Kotzebue (X) | Salmon | W | 5 AAC 03.100
Kuskokwim: Kuskokwim River/Bay (W1) Security Cove (W2) Goodnews Bay (W3) Nelson Island (W4) Ninivak Island (W5) Cape Avinof (W6) | Salmon Herring | W W | 5 AAC 07.100 5AAC 27.870
Norton Sound (Z) | Norton Sound-Port Clarence Salmon Norton Sound-Port Clarence King Crab | Z | 5 AAC 04.100
Prince William Sound (E) | Groundfish Herring Shrimp Dungeness Crab King Crab Tanner Crab Miscellaneous Shellfish Salmon | E E E E E E E | 5 AAC 28.200 5 AAC 27.300 5 AAC 31.200 5 AAC 32.200 5 AAC 34.200 5 AAC 35.300 5 AAC 38.200 5 AAC 24.100
Southeast: Juneau/Haines (A1) Yakutat (A2) Ketchikan/Craig (B) Petersburg/Wrangell (C) Sitka/Pelican (D) | Groundfish Southeast (w/o Yakutat) Herring Yakutat Herring Southeast (w/o Yakutat) Dungeness Shrimp Yakutat Shrimp Southeast (w/o Yakutat) Crab Yakutat Dungeness Crab Southeast (w/o Yakutat) King Crab Yakutat King Crab Southeast (w/o Yakutat) Tanner Crab Southeast (w/o Yakutat) Miscellaneous Shellfish Yakutat Miscellaneous Shellfish Southeast (w/o Yakutat) Salmon Yakutat Salmon | A A D A D A D A D A D A D A D | 5 AAC 28.100 5 AAC 27.100 5 AAC 27.200 5 AAC 31.100 5 AAC 31.150 5 AAC 32.100 5 AAC 32.155 5 AAC 34.100 5 AAC 34.160 5 AAC 35.100 5 AAC 35.160 5 AAC 38.100 5 AAC 38.160 5 AAC 33.100 5 AAC 29.010 5 AAC 30.100
Yukon River: Lower Yukon (YL) Upper Yukon (YU) | Yukon-Northern Salmon | Y | 5 AAC 05.100

Table 17 to Part 679. Process Codes for Use With State of Alaska Commercial Operator’s Annual Report (COAR)
Codes | Process Codes and Description
Prefix Codes | 1-Fresh
| 2-Frozen
| 3-Salted/brined
| 4-Smoked
| 5-Canned
| 6-Cooked
| 7-Live
| 8-Dry
| 9-Pickled
| 11-Minced
Suffix Codes | 0-General
| 1-Canned Conv.
| 2-Canned smoked
| 8-Vacuum packed
| B-Block
| I-Individual quick frozen (IQF) pack
| S-Shatter pack

Table 18 to Part 679. Required Buying and Production Forms for use with State of Alaska Commercial Operator’s Annual Report (COAR)
Fishery | Required Form Number and Name
Salmon | Salmon Buying: (A)(1) Seine gear (A)(1) Gillnet gear (A)(2) Troll gear (A)(3) Miscellaneous gear King Salmon Production: (B)(1) Production (B)(1) Canned Production Sockeye Salmon Production: (B)(2) (i) Production (ii) Canned Production Coho Salmon Production: (B)(3) (i) Production (ii) Canned Production Pink Salmon Production: (B)(4) (i) Production (ii) Canned Production Chum Salmon Production: (B)(5) (i) Production (ii) Canned Production Salmon Roe & Byproduct Production: (B)(6) (i) Roe (B)(6) (ii) Byproduct Production
Herring | Herring Buying: (C)(1) (i) Seine gear (ii) Gillnet gear (C)(2) (i) Gillnet gear (contd) (ii) Pound gear (iii)Hand-pick gear
| Herring Production: (D) (i) Production (ii) Byproduct Production
Crab | (E)Crab Buying: (F) Crab Production
Shrimp/Miscellaneous Shellfish | (G)Shrimp/Misc.Shellfish Buying: (i) Trawl gear (ii) Pot gear (iii) Diving/picked gear (iv) Other gear (specify) (H) Shrimp/Misc. Shellfish Production
Groundfish | (I)(1) Groundfish Buying (I)(2) Groundfish Buying (J)(1) Groundfish Production (J)(2) Groundfish Production
Halibut | (K) Halibut Buying & Production
Custom Production | Custom Production: (L)(1) Associated Processors (i) Custom Fresh/Frozen (ii) Misc. production (iii) Custom Canned Production (L)(2) (additional sheet)
PRICES NOT FINAL | (M)(1) Fish Buying Retro Payments (M)(2) Post-season Adjustment

[FR Doc. 01-20648 Filed 8-17-01: 8:45 am]

BILLING CODE 3510-22-S